DEPARTMENT OF THE INTERIOR

Bureau of Land Management

[NM-910-00-1020-PB]

New Mexico Resource Advisory Council Meeting

AGENCY: Bureau of Land Management, Interior.

ACTION: Notice of council meeting.

SUMMARY: In accordance with the Federal Land Policy and Management Act and the Federal Advisory Committee Act of 1972 (FACA), 5 U.S.C. appendix 1, The Department of the Interior, Bureau of Land Management (BLM), announces a meeting of the New Mexico Resource Advisory Council (RAC). The meeting will be held on June 14-16, 2000, at the Quality Inn, 1043 Camino del Pueblo Sur, Taos, NM.

There will be an optional all day field trip on Wednesday, June 14, 2000, to the Wild Rivers area to look at vegetation and on the ground events. The optional tour will start at the Quality Inn, in Taos, NW, at 8 am and end back in Taos, NM, about 5 pm. Transportation will be provided for RAC members.

The meeting on Thursday, June 15, 2000, starts at 8 a.m. and will end about 5 pm. The three established RAC Subcommittees may have late afternoon or evening meetings on this day. The exact time and location of the Subcommittee meeting will be established by the Chairperson of each Subcommittee earlier in the day during the RAC meeting. The meeting on Friday, June 16, 2000, starts at 8 a.m. and will end about 3 pm. The ending time of 3 p.m., for the meeting, may be changed depending on the work remaining for the RAC. The draft agenda for the RAC meeting includes an agreement on the meeting agenda, any RAC comments on the draft minutes of the last RAC meeting on April 26 through 28, 2000, in Lordsburg, NM, a check in from the RAC members (the following are planned presentations that also include discussions) a Standards and Guidelines update presentation, an update on the Lesser Prairie Chicken, Threatened and Endangered Species comprehensive approach on border issues, elk management on BLM, Forest Service, and private land, a Vermijo Park wildlife presentation, a Willow Flycatcher presentation, BLM Field Office Managers State of the Field Office presentations with emphasis on wildlife and the Willow Flycatcher, RAC Subcommittee reports from the Urban/Lands Subcommittee, the Oil and Gas Subcommittee, and the Roads and Trails Subcommittee, a public comment period to the RAC, RAC discussions and any RAC recommendations, develop draft agenda items and select a location for the next RAC meeting, and a RAC assessment on the current meeting. The time for the public to address the RAC is on Friday, June 16, 2000, from 10 a.m. to 12 noon. The RAC may reduce or extend the end time of 12:00 noon depending on the number of people wishing to address the RAC. Anyone wishing to address the RAC should be present at the 10:00 starting time. The length of time available for each person to address the RAC will be established at the start of the public comment period and will depend on how many people there are that wish to address the RAC. At the completion of the public comments the RAC may continue discussion on its agenda items.

FOR FURTHER INFORMATION CONTACT: Mary White, New Mexico State Office, Office of External Affairs, Bureau of Land Management, 1474 Rodeo Road, PO Box 27115, Santa Fe, New Mexico 87502-0115, telephone (505) 438-7404.

SUPPLEMENTARY INFORMATION: The purpose of the Resource Advisory Council is to advise the Secretary of the Interior, through the BLM, on a variety of planning and management issues associated with the management of public lands. The Council's responsibilities include providing advice on long-range planning, establishing resource management priorities and assisting the BLM to identify State and regional standards for rangeland health and guidelines for grazing management.

Dated: May 9, 2000.
Michelle J. Chavez,
State Director.

[FR Doc. 00-12104 Filed 5-12-00; 8:45 am]

BILLING CODE 4310-FB-M